CONSUMER PRODUCT SAFETY COMMISSION

[Docket No. CPSC-2019-0005]

Agency Information Collection Activities; Proposed Collection; Comment Request; Anchor It! Campaign Survey

AGENCY: Consumer Product Safety Commission.

ACTION: Notice.

SUMMARY: The Consumer Product Safety Commission (CPSC) is announcing an opportunity for public comment on a new proposed collection of information by the agency. Under the Paperwork Reduction Act of 1995 (PRA), federal agencies are required to publish notice in the Federal Register for each proposed collection of information and to allow 60 days for public comment in response to the notice. This notice solicits comments on a proposed survey that will evaluate consumer awareness or recognition of CPSC's “Anchor It!” campaign.

DATES: Submit written or electronic comments on the collection of information by June 7, 2019.

ADDRESSES: You may submit comments, identified by Docket No. CPSC-2019-0005, by any of the following methods:

Electronic Submissions: Submit electronic comments to the Federal eRulemaking Portal at: http://www.regulations.gov. Follow the instructions for submitting comments. CPSC does not accept comments submitted by electronic mail (email), except through www.regulations.gov. CPSC encourages you to submit electronic comments by using the Federal eRulemaking Portal, as described above.

Written Submissions: Submit written submissions in the following way: Mail/hand delivery/courier to: Division of the Secretariat, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2019-0005, into the “Search” box, and follow the prompts. A copy of the draft proposed survey is available at: http://www.regulations.gov under Docket No. CPSC-2019-0005, Supporting and Related Material.

FOR FURTHER INFORMATION CONTACT: Bretford Griffin, Consumer Product Safety Commission, 4330 East-West Highway, Bethesda, MD 20814; (301) 504-7037, or by email to: BGriffin@cpsc.gov.

SUPPLEMENTARY INFORMATION: Under the PRA (44 U.S.C. 3501-3520), federal agencies must obtain approval from the Office of Management and Budget (OMB) for each collection of information they conduct or sponsor. “Collection of information” is defined in 44 U.S.C. 3502(3) and 5 CFR 1320.3(c) and includes agency proposed surveys. Section 3506(c)(2)(A) of the PRA (44 U.S.C. 3506(c)(2)(A)) requires federal agencies to provide a 60-day notice in the Federal Register concerning each proposed collection of information before submitting the collection to OMB for approval. Accordingly, CPSC is publishing notice of the proposed collection of information set forth in this document.

A. Anchor It! Campaign Proposed Survey

CPSC is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that CPSC may conduct research, studies, and investigations on the safety of consumer products or test consumer products and develop product safety test methods and testing devices.

In October 2018, CPSC issued a report “Product Instability or Tip-Over Injuries and Fatalities Associated with Televisions, Furniture, and Appliances” (2018 Report), which showed that emergency departments across the United States treated an estimated 27,300 television- or furniture stability-related injuries annually in 2015-2017 (8,200 involved televisions or both televisions and furniture and 19,100 involved only furniture).¹ The 2018 Report also reviewed death incidents from 2000 through 2017, and found 507 fatalities (342 involved televisions or both televisions and furniture and 165 involved only furniture.) The 2018 Report showed that children account for the vast majority of both fatalities (83%), as well as the majority of estimated non-fatal emergency department-treated injuries (50%) caused by TV/furniture instability. Of child fatalities, 72 percent involved TV tip-over, and 24 percent furniture tip-over.

¹ https://www.cpsc.gov/s3fs-public/Product%20Instability%20or%20Tip%20Over%20Report%20Oct%202018_STAMPED.pdf?J6AwbQ.ZwNQKkWQknOKUDi4ur0i.6D73.

To address the hazard associated with TV/furniture tip-overs, as early as 2015, CPSC implemented an information and education campaign called, “Anchor It!” that stressed the importance of safely and securely mounting TVs and furniture to walls with a goal of reducing the number of injuries and deaths due to TV/furniture tip-over.² CPSC seeks, through the proposed survey, to evaluate consumer awareness or recognition of the “Anchor It!” campaign, consumer comprehension of the risks and remedies of TV/furniture tip over and anchoring, and consumer behavior and attitude change from the “Anchor It!” campaign.

² https://www.cpsc.gov/Safety-Education/Safety-Education-Centers/Tipover-Information-Center/.

The proposed survey will collect data from a sample of approximately 600 parent and non-parent caregivers of children ages 0-5 years to assess their current behaviors about anchoring furniture and/or televisions in homes, their attitudes and beliefs about anchoring, their knowledge of the CPSC and the “Anchor It!” campaign, and their intentions about anchoring in the future. The proposed survey consists of a highly varied national sample. The proposed survey data will enable CPSC to assess individuals' existing knowledge of anchoring furniture and televisions, and inform recommendations on how to modify the “Anchor It!” campaign to better target and educate parents and non-parent caregivers. Findings that arise from the proposed survey may also be used by CPSC in designing future studies.

CPSC has entered into a contract with Fors Marsh Group (FMG) to conduct the proposed survey and collect the data. The National Opinion Research Center (NORC) will program and administer the final survey over the internet. NORC will contact participants electronically via email. The proposed survey will be administered using a secure online platform and the results from the proposed survey will be accessible only to authorized personnel. Following data collection, FMG will summarize the results and provide a final report along with the dataset to CPSC staff.

B. Burden Hours

The proposed survey will take approximately 20 minutes to complete. We estimate the number of respondents to be 600. We estimate the total annual burden hours for respondents to be 200 hours. The monetized hourly cost is $36.22, as defined by the average total hourly cost to employers for employee compensation for employees across all occupations as of June 2018, reported by the Bureau of Labor Statistics. The total cost burden is estimated to be $7,244 (200 hours × $36.22). The total cost to the federal government for the contract to design and conduct the proposed survey is $210,112.

C. Request for Comments

CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected; and

• Ways to minimize the burden of the collection of information on respondents, including through the use of automated collection techniques, when appropriate, and other forms of information technology.

Alberta E. Mills,
Secretary, Consumer Product Safety Commission.

[FR Doc. 2019-06840 Filed 4-5-19; 8:45 am]

BILLING CODE 6355-01-P